ENVIRONMENTAL PROTECTION AGENCY

[CERCLA-04-2018-3164; FRL-9995-14-Region 4]

Chemform, Inc., Superfund Site Pompano Beach, Florida; Notice of Settlement

AGENCY: Environmental Protection Agency (EPA).

ACTION: Notice of settlement.

SUMMARY: Under the Comprehensive Environmental Response, Compensation and Liability Act (CERCLA), the United States Environmental Protection Agency (EPA) has entered into a settlement agreement with Metropolitan Life Insurance Company and Smith International, Inc. concerning the Chemform, Inc., Superfund Site located in Pompano Beach, Florida. The settlement addresses recovery of CERCLA costs for a cleanup action performed by the EPA at the Site.

DATES: The Agency will consider public comments on the settlement until July 11, 2019. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using the contact information provided in this notice. Comments may also be submitted by referencing the Site's name through one of the following methods:

• Internet: https://www.epa.gov/aboutepa/about-epa-region-4-southeast#r4-public-notices.

• U.S. Mail: U.S. Environmental Protection Agency, Superfund Division, Attn: Paula V. Painter, 61 Forsyth Street SW, Atlanta, Georgia 30303.

• Email: Painter.Paula@epa.gov.

FOR FURTHER INFORMATION CONTACT: Paula V. Painter at 404/562-8887.

Dated: December 10, 2018.
Maurice L. Horsey, IV,
Chief, Enforcement and Community Engagement Branch, Superfund Division.

Editorial Note: The Office of the Federal Register received this document on June 6, 2019.

[FR Doc. 2019-12296 Filed 6-10-19; 8:45 am]

BILLING CODE 6560-50-P